SMALL BUSINESS ADMINISTRATION

[Disaster Declaration #14312]

MASSACHUSETTS Disaster #MA-00064 Declaration of Economic Injury

AGENCY: U.S. Small Business Administration.

ACTION: Notice.

SUMMARY: This is a notice of an Economic Injury Disaster Loan (EIDL) declaration for the Commonwealth of Massachusetts, dated 05/15/2015.

Incident: Record-breaking Snowfall and Extreme Cold Temperatures.

Incident Period: 01/26/2015 through 02/22/2015.

DATES: Effective Date: 05/15/2015.

EIDL Loan Application Deadline Date: 02/15/2016.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW., Suite 6050, Washington, DC 20416

SUPPLEMENTARY INFORMATION: Notice is hereby given that as a result of the Administrator's EIDL declaration, applications for economic injury disaster loans may be filed at the address listed above or other locally announced locations.

The following areas have been determined to be adversely affected by the disaster:

Primary Counties: Middlesex, Norfolk, Plymouth

Contiguous Counties:

Massachusetts: Barnstable, Bristol, Essex, Suffolk, Worcester

New Hampshire: Hillsborough

Rhode Island: Providence

The Interest Rates are:

| Percent
Businesses and Small Agricultural Cooperatives Without Credit Available Elsewhere | 4.000
Non-Profit Organizations Without Credit Available Elsewhere | 2.625

The number assigned to this disaster for economic injury is 143120.

The States which received an EIDL Declaration # are: Massachusetts, New Hampshire, Rhode Island.

(Catalog of Federal Domestic Assistance Number 59002)

Dated: May 15, 2015.
Maria Contreras-Sweet,
Administrator.

[FR Doc. 2015-12370 Filed 5-21-15; 8:45 am]

BILLING CODE 8025-01-P